ENVIRONMENTAL PROTECTION AGENCY

OPP-00665; FRL-6593-3

State FIFRA Issues Research and Evaluation Group (SFIREG); Notice of Public Meeting

AGENCY: Environmental Protection Agency (EPA).

ACTION: Notice of public meeting.

SUMMARY: The State FIFRA Issues Research and Evaluation Group (SFIREG) will hold a 2-day meeting, beginning on June 26, 2000 and ending on June 27, 2000. This notice announces the location and times for the meeting and sets forth the tentative agenda topics.

DATES: The meeting will be held on Monday, June 26 from 8:30 a.m. to 5 p.m. and: Tuesday, June 27, 2000 from 8:30 a.m. to 12:00 noon.

ADDRESSES: The meeting will be held at Doubletree Hotel, 300 Army Navy Drive, Arlington,—Crystal City, VA.

FOR FURTHER INFORMATION CONTACT: Philip H. Gray, SFIREG Executive Secretary, P.O. Box 1249, Hardwick, VT 05843-1249; (802) 472-6956; fax: (802) 472-6957; e-mail address: aapco@plainfield.bypass.com or Georgia A. McDuffie, Field and External Affairs Division (7506C), Office of Pesticide Programs, Environmental Protection Agency, Ariel Rios Building, 1200 Pennsylvania Avenue, NW., Washington, DC 20405: (703) 605-0195; fax number: (703) 308-1850; e-mail address: McDuffie.Georgia@epa.gov.

SUPPLEMENTARY INFORMATION:

I. Does this Action Apply to Me?

This action is directed to the public in general, but all parties interested in SFIREG's information exchange relationship with EPA regarding important issues related to human health, environmental exposure to pesticides, and insight into the EPA's decision-making process are invited and encouraged to attend the meetings and participate as appropriate.

II. How Can I Get Additional Information, Including Copies of This Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. You may also obtain electronic copies of the minutes, and certain other related documents that might be available electronically from the Association of American Pesticide Control Officials (AAPCO) Internet Home Page at http:aapco.ceris.purdue.edu/doc/index.html. To access this document, on the Home Page select “SFIREG” Meetings.

2. By mail. Philip H. Gray, SFIREG Executive Secretary, P.O. Box 1249, Hardwick, VT 05843-1249.

III. Purpose of Meeting

Tentative Agenda:

1. Reregistration comments on approach to 15 year reregistration cycle.

2. Phosphine labeling initiative.

3. Prescription pesticide use is this a new direction for reregistration decisions?

4. Mandatory versus Advisory label language PR Notice describe responses to comments.

5. Update on Inspector Credentials Initiative.

6. CTAG—activities and workshops.

7. Worker Protection Standard: agency activities.

8. Keep out of Reach of Children.

9. Regional reports.

10. Committee reports and introduction of issue papers.

11. LifeLine presentation.

12. SFIREG issue paper status report.

13. Other topics as appropriate.

List of Subjects

Environmental protection.

Dated: June 12, 2000.
Jay Ellenberger,
Director, Field and External Affairs Division, Office of Pesticide Programs.

[FR Doc. 00-15379 Filed 6-14-00; 1:17 pm]

BILLING CODE 6560-50-F